DEPARTMENT OF COMMERCE

National Oceanic and Atmospheric Administration

RIN 0648-XG206

Marine Mammals; File No. 22049

AGENCY: National Marine Fisheries Service (NMFS), National Oceanic and Atmospheric Administration (NOAA), Commerce.

ACTION: Notice; receipt of application.

SUMMARY: Notice is hereby given that Living Planet Productions/Silverback Films, 1 St. Augustine Yard, Gaunts Lane, Bristol, BS1 5DE, UK (Responsible Party: Sarah Wade), has applied in due form for a permit to conduct commercial or educational photography on bottlenose dolphins (Tursiops truncatus).

DATES: Written, telefaxed, or email comments must be received on or before June 4, 2018.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 22049 in the subject line of the email comment.

Those individuals requesting a public hearing should submit a written request to the Chief, Permits and Conservation Division at the address listed above. The request should set forth the specific reasons why a hearing on this application would be appropriate.

FOR FURTHER INFORMATION CONTACT: Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film bottlenose dolphins in Everglades National Park, Florida from boats, helicopters, and underwater cameras from June through September 2018. Up to 140 dolphins may be harassed during helicopter flights. An additional 276 dolphins may be harassed during vessel filming. The goal of the project is to obtain footage of mud-ring feeding dolphins that will be used in an upcoming television documentary series to be released on Netflix. The permit would be valid until October 1, 2018.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 1, 2018.
Julia Marie Harrison,
Chief, Permits and Conservation Division, Office of Protected Resources, National Marine Fisheries Service.

[FR Doc. 2018-09547 Filed 5-3-18; 8:45 am]

BILLING CODE 3510-22-P